NATIONAL SCIENCE FOUNDATION

Sunshine Act Meetings; National Science Board

The National Science Board, pursuant to NSF regulations (45 CFR part 614), the National Science Foundation Act, as amended (42 U.S.C. 1862-5), and the Government in the Sunshine Act (5 U.S.C. 552b), hereby provides updated information regarding meetings for the transaction of National Science Board business that was previously given in Notice 2013-22590, scheduled for publication on September 16, 2013 (78 FR 56944).

PREVIOUS DATE AND TIME: September 19, 2013 from 8:00 a.m. to 11:00 a.m. and 4:00 p.m. to 4:15 p.m.

REVISED TIME: Morning session—no change. Afternoon session is now from 4:00 p.m. to 5:00 p.m.

PLACE: No change.

STATUS: No change.

ADDITIONAL INFORMATION: The morning session will be webcast. To view the session, log onto: http://uofw.adobeconnect.com/nsfboardmeeting/ and follow the directions. Please refer to the National Science Board Web site (http://www.nsf.gov/nsb/notices/) for additional information and schedule updates, or contact Jennie Moehlmann, jmoehlma@nsf.gov, or (703) 292-7000. The Public Affairs contact is Dana Topousis, dtopousi@nsf.gov, (703) 292-7750.

Revised Meeting Agenda

Plenary Executive Closed Session: 4:00-5:00 p.m.

• Chairman's remarks

• Nominations Committee recommendations

• Discussion of legislative matters

MEETING ADJOURNS: 5:00 p.m.

Ann Bushmiller,
Senior Counsel to the National Science Board.

[FR Doc. 2013-22803 Filed 9-16-13; 4:15 pm]

BILLING CODE 7555-01-P